DEPARTMENT OF ENERGY

Federal Energy Regulatory Commission

Combined Notice of Filings #1

Take notice that the Commission received the following electric rate filings:

Docket Numbers: ER10-2068-006; ER10-2077-005.

Applicants: Delaware City Refining Company LLC, PBF Power Marketing LLC.

Desciption: Delaware City Refining Company LLC, Triennial Market Power Analysis and Notice of Change in Status.

Filed Date: 06/14/2011.

Accession Number: 20110614-5151.

Comment Date: 5 p.m. Eastern Time on Monday, August 15, 2011.

Docket Numbers: ER10-2074-001; ER10-2097-003.

Applicants: Kansas City Power & Light Company, KCP&L Greater Missouri Operations Company.

Desciption: Notice of Non-Material Change in Status of Kansas City Power & Light Company and KCP&L Greater Missouri Operations Company.

Filed Date: 06/14/2011.

Accession Number: 20110614-5149.

Comment Date: 5 p.m. Eastern Time on Tuesday, July 05, 2011.

Docket Numbers: ER10-3094-001; ER10-3090-001; ER10-3088-001; ER10-3087-001; ER10-3093-001; ER10-3095-001; ER10-3085-001; ER10-3084-001; ER10-3086-001.

Applicants: Fresno Cogeneration Partners, L.P., Wellhead Power eXchange, LLC, Wellhead Power Gates, LLC, Wellhead Power Panoche, LLC, Power Exchange Corporation, Escondido Energy Center, LLC, Chula Vista Energy Center, LLC, El Cajon Energy, LLC, Santa Maria Cogen, Inc.

Desciption: Notice of Non-Material Change in Status of Power Exchange Corporation, et al.

Filed Date: 06/14/2011.

Accession Number: 20110614-5162.

Comment Date: 5 p.m. Eastern Time on Tuesday, July 05, 2011.

Docket Numbers: ER11-2127-004.

Applicants: Terra-Gen Dixie Valley, LLC

Desciption: Terra-Gen Dixie Valley, LLC submits tariff filing per 35: OATT Compliance Filing to be effective 5/14/2011.

Filed Date: 06/14/2011.

Accession Number: 20110614-5002.

Comment Date: 5 p.m. Eastern Time on Tuesday, July 05, 2011.

Docket Numbers: ER11-2577-002.

Applicants: Cedar Creek Wind Energy, LLC

Desciption: Cedar Creek Wind Energy, LLC submits tariff filing per 35: Certificate of Concurrence to be effective 6/14/2011.

Filed Date: 06/14/2011.

Accession Number: 20110614-5119.

Comment Date: 5 p.m. Eastern Time on Tuesday, July 05, 2011.

Docket Numbers: ER11-2819-001.

Applicants: California Independent System Operator Corporation

Desciption: California Independent System Operator Corporation submits tariff filing per 35: 2011-06-14 CAISO's Meter Penalty Waiver Request Comp to be effective 6/14/2011.

Filed Date: 06/14/2011.

Accession Number: 20110614-5028.

Comment Date: 5 p.m. Eastern Time on Tuesday, July 05, 2011.

Docket Numbers: ER11-3589-001.

Applicants: Long Island Solar Farm, LLC.

Desciption: Long Island Solar Farm, LLC submits tariff filing per 35.17(b): LISF MBR Amended Filing to be effective 9/12/2011.

Filed Date: 06/14/2011

Accession Number: 20110614-5066.

Comment Date: 5 p.m. Eastern Time on Tuesday, July 05, 2011.

Docket Numbers: ER11-3790-000.

Applicants: The Cleveland Electric Illuminating Company.

Desciption: Notice of Cancellation of FERC Rate Schedule No. 14 of The Cleveland Electric Illuminating Company with the City of Painesville.

Filed Date: 06/14/2011.

Accession Number: 20110614-5040.

Comment Date: 5 p.m. Eastern Time on Tuesday, July 05, 2011.

Docket Numbers: ER11-3792-000.

Applicants: Wisconsin Power and Light Company.

Desciption: Wisconsin Power and Light Company submits tariff filing per 35.13(a)(2)(iii: WPL REC Wholesale Power Agreement Amendment to be effective 2/2/2011.

Filed Date: 06/14/2011.

Accession Number: 20110614-5051.

Comment Date: 5 p.m. Eastern Time on Tuesday, July 05, 2011.

Docket Numbers: ER11-3795-000.

Applicants: Interstate Power and Light Company.

Desciption: Interstate Power and Light Company submits tariff filing per 35.13(a)(2)(iii: IPL & Elk Wind Energy—LBA Agreement to be effective 6/14/2011.

Filed Date: 06/14/2011.

Accession Number: 20110614-5120.

Comment Date: 5 p.m. Eastern Time on Tuesday, July 05, 2011.

Docket Numbers: ER11-3796-000.

Applicants: AEP Texas North Company.

Desciption: AEP Texas North Company submits tariff filing per 35.13(a)(2)(iii: 20110614 TNC-WKN Mozart GIA to be effective 6/15/2011.

Filed Date: 06/14/2011.

Accession Number: 20110614-5121.

Comment Date: 5 p.m. Eastern Time on Tuesday, July 05, 2011.

Docket Numbers: ER11-3797-000.

Applicants: Public Service Company of Oklahoma.

Desciption: Public Service Company of Oklahoma submits tariff filing per 35.13(a)(2)(iii: 20110614 PSO-OMPA Duncan Cherokee FA to be effective 6/14/2011.

Filed Date: 06/14/2011.

Accession Number: 20110614-5123

Comment Date: 5 p.m. Eastern Time on Tuesday, July 05, 2011.

Docket Numbers: ER11-3798-000.

Applicants: Nevada Power Company.

Desciption: Nevada Power Company and El Dorado Energy, LLC Cost Reimbursement Letter Agreement.

Filed Date: 06/14/2011.

Accession Number: 20110614-5161.

Comment Date: 5 p.m. Eastern Time on Tuesday, July 05, 2011.

Take notice that the Commission received the following electric securities filings:

Docket Numbers: ES11-36-000.

Applicants: The United Illuminating Company.

Desciption: Response to FERC Staff Informal Request and Renewed Request for Expedited Treatment of The United Illuminating Company.

Filed Date: 06/14/2011.

Accession Number: 20110614-5045.

Comment Date: 5 p.m. Eastern Time on Friday, June 24, 2011.

Take notice that the Commission received the following qualifying facility filings:

Docket Numbers: QF81-35-004.

Applicants: Anderson Plant LLC.

Desciption: Application of Anderson Plant LLC for Certification of Qualifying Facility Status for cogeneration facility.

Filed Date: 06/08/2011.

Accession Number: 20110608-5140.

Comment Date: None Applicable.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: June 15, 2011.
Nathaniel J. Davis, Sr.,
Deputy Secretary.

[FR Doc. 2011-15419 Filed 6-20-11; 8:45 am]

BILLING CODE 6717-01-P